SECURITIES AND EXCHANGE COMMISSION

[Investment Company Act Release No. 34581; File No. 812-15317]

Blackstone Floating Rate Enhanced Income Fund, et al.

AGENCY: Securities and Exchange Commission (“Commission” or “SEC”).

ACTION: Notice.

Notice of application for an order (“Order”) under sections 17(d) and 57(i) of the Investment Company Act of 1940 (the “Act”) and rule 17d-1 under the Act to permit certain joint transactions otherwise prohibited by sections 17(d) and 57(a)(4) of the Act and rule 17d-1 under the Act.

Summary of Application: Applicants request an order to amend a previous order granted by the Commission that permits certain business development companies (“BDCs”) and closed-end management investment companies to co-invest in portfolio companies with each other and with certain affiliated investment entities.

Applicants: Blackstone Floating Rate Enhanced Income Fund, Blackstone Long-Short Credit Income Fund, Blackstone Private Credit Fund, Blackstone Senior Floating Rate Term Fund, Blackstone Strategic Credit Fund, Blackstone Secured Lending Fund, Blackstone Liquid Credit Strategies LLC, Blackstone Credit BDC Advisors LLC, Blackstone Alternative Credit Advisors LP, Blackstone Liquid Credit Advisors I LLC, Blackstone Liquid Credit Advisors II LLC, Blackstone Mezzanine Advisors L.P., Blackstone CLO Management LLC (Management Series), Blackstone Ireland Limited, Blackstone Ireland Fund Management Limited, G QCM SCSP, GSO Barre Des Ecrins Fund I SCSP, GSO Barre Des Ecrins Fund II SCSP, GSO Barre Des Ecrins Master Fund SCSP, BSOF Master Fund II L.P., BSOF Master Fund L.P., BSOF Parallel Master Fund L.P., Allegany Park CLO, Ltd., Beechwood Park CLO, Ltd., Blackstone European Senior Loan Fund, Blackstone/GSO Global Dynamic Credit Master Fund, Blackstone Secured Trust Ltd, Blackstone Securities Partners L.P., Blackstone HPPI CLO Fund FCP-RAIF, Blackstone Holdings I L.P., Blackstone Holdings II L.P., Blackstone Holdings III L.P., Blackstone Holdings IV L.P., Blackstone Holdings Finance Co, L.L.C., Blackstone Us Loan Master Fund, Blackstone Treasury Holdings II LLC, Blackstone CLO Opportunity Master Fund LP, Bowman Park CLO, Ltd., Bristol Park CLO, Ltd., Buckhorn Park CLO, Ltd., Burnham Park CLO, Ltd., Buttermilk Park CLO, Ltd., BCRED Twin Peaks LLC, BCRED Siris Peak Funding LLC, BCRED Denali Peak Funding LLC, BXC Jade Topco 1 LP, BXC Jade Topco 2 LP, BXC Jade Topco 3 LP, BXC Jade Topco 4 LP, Carysfort Park CLO DAC, Castle Park CLO Designated Activity Company, Catskill Park CLO, Ltd., Cayuga Park CLO, Ltd., Chenango Park CLO, Ltd., Cirrus Funding 2018-1, Ltd., Clarinda Park CLO Designated Activity Company, Clontarf Park CLO Designated Activity Company, Cole Park CLO Limited, Cook Park CLO, Ltd., Crosthwaite Park CLO Designated Activity Company, Cumberland Park CLO, Ltd., Dartry Park CLO Designated Activity Company, Deer Park CLO DAC, Dewolf Park CLO, Ltd., Diamond CLO 2018-1 Ltd., Diamond CLO 2019-1 Ltd., Dorchester Park CLO Designated Activity Company, Dunedin Park CLO Designated Activity Company, Elm Park CLO Designated Activity Company, Emerson Park CLO, Ltd., Fillmore Park CLO, Ltd., Fleet Street Auto 2020 LP, Gilbert Park CLO, Ltd., GN Loan Fund LP, Greenwood Park CLO, Ltd., Griffith Park CLO Designated Activity Company, Grippen Park CLO, Ltd., Blackstone Senior Floating Rate Opportunity Fund LP, GSO Aiguille Des Grands Montets Fund I LP, GSO Aiguille Des Grands Montets Fund II LP, GSO Aiguille Des Grands Montets Fund III LP, GSO Capital Opportunities Fund III LP, Blackstone Capital Opportunities Fund IV LP, GSO Capital Solutions Fund II LP, GSO Capital Solutions Fund III LP, GSO Churchill Partners II LP, GSO Churchill Partners LP, GSO COF III Co-Investment Fund LP, Blackstone COF IV Co-Investment Fund LP, GSO Co-Investment Fund-D LP, GSO Credit Alpha Diversified Alternatives LP, GSO Credit Alpha Fund II LP, GSO Credit Alpha Fund LP, GSO Credit-A Partners LP, GSO Diamond Portfolio Fund LP, GSO Direct Lending Fund-D LP, GSO Energy Lending Fund-A Onshore LP, GSO Energy Lending Fund-A Overseas LP, GSO Energy Partners-A LP, GSO Energy Partners-B LP, GSO Energy Partners-C II LP, GSO Energy Partners-C LP, GSO Energy Partners-D LP, GSO Energy Partners-E LP, GSO Energy Select Opportunities Fund II LP, GSO Energy Select Opportunities Fund LP, GSO European Senior Debt Fund II LP, GSO European Senior Debt Fund LP, GSO European Senior Debt Fund II Levered EEA SCSP, GSO European Senior Debt Fund II EEA SCSP, GSO Harrington Credit Alpha Fund L.P., GSO Jasmine Partners LP, GSO Orchid Fund LP, GSO Palmetto Opportunistic Investment Partners LP, GSO Palmetto Strategic Partnership, L.P., GSO RP Holdings LP, GSO SJ Partners LP, GSO Special Situations Master Fund LP, Harbor Park CLO, Ltd., Harriman Park CLO, Ltd., Holland Park CLO Designated Activity Company, Jay Park CLO, Ltd., Long Point Park CLO, Ltd., Maple Park CLO, Ltd., Marlay Park CLO Designated Activity Company, Marino Park CLO DAC, Milltown Park CLO Designated Activity Company, Myers Park CLO, Ltd., Niagara Park CLO, Ltd., Orwell Park CLO Designated Activity Company, Palmerston Park CLO Designated Activity Company, Phoenix Park CLO Designated Activity Company, Reese Park CLO, Ltd., Richmond Park CLO Designated Activity Company, Seapoint Park CLO Designated Activity Company, Seneca Park CLO, Ltd., Sorrento Park CLO Designated Activity Company, Southwick Park CLO, Ltd., Stratus CLO 2020-2, Ltd., Stewart Park CLO, Ltd., Sutton Park CLO Designated Activity Company, Taconic Park CLO, Ltd., Thacher Park CLO, Ltd., Thayer Park CLO, Ltd., Thompson Park CLO, Ltd., Treman Park CLO, Ltd., Tryon Park CLO, Ltd., Tymon Park CLO Designated Activity Company, Vesey Park CLO DAC, Webster Park CLO, Ltd., Westcott Park CLO, Ltd., Willow Park CLO Designated Activity Company, Blackstone Green Private Credit Fund III (Lux) Feeder SCSP, Blackstone Green Private Credit Fund III (Lux) SCSP, Boyce Park CLO, Ltd., Nyack Park CLO, Ltd., Bethpage Park CLO, Ltd., King's Park CLO, Ltd., Cabinteely Park CLO DAC, Stratus CLO 2021-2, Ltd., Stratus CLO 2021-1, Ltd., Stratus CLO 2021-3, Ltd., Basswood Park CLO, Ltd., Tallman Park CLO, Ltd., Whetstone Park CLO, Ltd., Wellman Park CLO, Ltd., Point Au Roche Park CLO, Ltd., Rockland Park CLO, Ltd., Rockfield Park CLO DAC, Peace Park CLO, Ltd., Dillon's Park CLO DAC, Otranto Park CLO DAC, BXC Armadillo Co-Investment Fund-D LP, BXC Azul Super Topco LP, BXC Jade Super Topco LP, BX Shipston SCSP, BX Shipston I SARL, BX Shipston Direct Lending SCSP, BXC Space Topco LP, BXC Sapphire Topco LP, BXC Cyan Topco LP, BXC Cobalt Topco LP, BXC Aegean Topco LP, BXC Azure Topco LP, BXC Jade Topco 5-B LP, BXC Jade Topco 6-B LP, BXC Jade Topco 7-B LP, BXC Jade Topco 8-B LP, BXC Jade Topco 9-B LP, BXC Jade Topco 10-B LP.

Filing Dates: The application was filed on April 7, 2022, and amended on May 2, 2022, and May 10, 2022.

Hearing or Notification of Hearing: An order granting the requested relief will be issued unless the Commission orders a hearing. Interested persons may request a hearing on any application by emailing the SEC's Secretary at Secretarys-Office@sec.gov and serving the Applicants with a copy of the request by email, if an email address is listed for the relevant Applicant below, or personally or by mail, if a physical address is listed for the relevant Applicant below. Hearing requests should be received by the Commission by 5:30 p.m. on, June 6, 2022, and should be accompanied by proof of service on applicants, in the form of an affidavit or, for lawyers, a certificate of service. Pursuant to rule 0-5 under the Act, hearing requests should state the nature of the writer's interest, any facts bearing upon the desirability of a hearing on the matter, the reason for the request, and the issues contested. Persons who wish to be notified of a hearing may request notification by emailing the Commission's Secretary at Secretarys-Office@sec.gov.

ADDRESSES: The Commission: Secretarys-Office@sec.gov. Applicants: Rajib Chanda at Rajib.Chanda@stblaw.com and Christopher Healey at Christopher.Healey@stblaw.com.

FOR FURTHER INFORMATION CONTACT: Bruce R. MacNeil, Senior Counsel, or Kaitlin C. Bottock, Branch Chief, at (202) 551-6825 (Division of Investment Management, Chief Counsel's Office).

SUPPLEMENTARY INFORMATION: For Applicants' representations, legal analysis, and conditions, please refer to Applicants' second amended and restated application, dated May 10, 2022, which may be obtained via the Commission's website by searching for the file number at the top of this document, or for an Applicant using the Company name search field, on the SEC's EDGAR system. The SEC's EDGAR system may be searched at http://www.sec.gov/edgar/searchedgar/legacy/companysearch.html. You may also call the SEC's Public Reference Room at (202) 551-8090.

For the Commission, by the Division of Investment Management, under delegated authority.
Dated: May 11, 2022.
J. Matthew DeLesDernier,
Assistant Secretary.

[FR Doc. 2022-10497 Filed 5-16-22; 8:45 am]

BILLING CODE 8011-01-P